DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 19, 2008.

Interested persons are invited to submit written comments regarding the subject matter of the investigations to the Director, Division of Trade Adjustment Assistance, at the address shown below, not later than February 19, 2008.

The petitions filed in this case are available for inspection at the Office of the Director, Division of Trade Adjustment Assistance, Employment and Training Administration, U.S. Department of Labor, Room C-5311, 200 Constitution Avenue, NW., Washington, DC 20210.

Signed at Washington, DC, this 31st day of January 2008.
Ralph DiBattista,
Director, Division of Trade Adjustment Assistance.

APPENDIX
[TAA petitions instituted between 1/22/08 and 1/25/08]
TA-W | Subject firm (petitioners) | Location | Date of institution | Date of petition
62708 | USR Optonix, Inc. (Comp) | Washington, NJ | 01/22/08 | 01/16/08
62709 | ITT Corp., Koni Friction Product Div. (State) | Searcy, AR | 01/22/08 | 01/18/08
62710 | Mahle Engine Components (USWA) | Caldwell, OH | 01/22/08 | 01/17/08
62711 | Carrollton Specialty Products (Wkrs) | Carrollton, MO | 01/22/08 | 01/17/08
62712 | Emerson Motor Co/Hurst Manufacturing (Comp) | Princeton, IN | 01/22/08 | 01/21/08
62713 | NGT Controls, Inc. (State) | Irvine, CA | 01/22/08 | 01/18/08
62714 | F.W. Rickard Seeds (Wrks) | Winchester, KY | 01/22/08 | 01/21/08
62715 | Formica Corporation (Comp) | Odenton, MD | 01/22/08 | 01/17/08
62716 | Lunt Manufacturing Co., Inc. (Comp) | Hampshire, IL | 01/23/08 | 01/18/08
62717 | EGS Electrical Group (TLC) | Celina, TN | 01/23/08 | 01/22/08
62718 | Fraser Timber Limited (Comp) | Ashland, ME | 01/23/08 | 01/19/08
62719 | OSRAM Sylvania (IAMAW) | Warren, PA | 01/23/08 | 01/22/08
62720 | Pfizer Company (Wrks) | Portage, MI | 01/23/08 | 01/22/08
62721 | Kirby Lester, LLC (State) | Stamford, CT | 01/23/08 | 01/22/08
62722 | Benson Manufacturing, Inc. (Wkrs) | Mineral Wells, WV | 01/23/08 | 01/03/08
62723 | Chestertown Foods, Inc. (State) | Chestertown, MD | 01/23/08 | 01/07/08
62724 | Keola Precision Technology, Inc. (State) | Fremont, CA | 01/23/08 | 01/14/08
62725 | Elmet Technologies (State) | Lewiston, ME | 01/23/08 | 01/22/08
62726 | Metaldyne (Wkrs) | Farmington Hills, MI | 01/23/08 | 01/17/08
62727 | KAM Plastics, Inc. (State) | Holland, MI | 01/23/08 | 01/22/08
62728 | Haldex Brake Products Corporation (Comp) | Prattville, AL | 01/24/08 | 01/23/08
62729 | McComb Mill Manufacturing Company, Inc. (Comp) | McComb, MS | 01/24/08 | 01/22/08
62730 | Bartech Group (workers assigned to Delphi) (Wkrs) | Oak Creek, WI | 01/24/08 | 01/18/08
62731 | Lufkin Industries, Inc. (Comp) | Lufkin, TX | 01/24/08 | 01/16/08
62732 | Tall, Inc. (Rep) | Miami, FL | 01/24/08 | 01/18/08
62733 | Ravenna Aluminum, Inc. (Comp) | Ravenna, OH | 01/24/08 | 12/28/07
62734 | Imerys Kaolin (USWA) | Dry Branch, GA | 01/24/08 | 01/21/08
62735 | GKN Driveline North America, Inc. (Comp) | Sanford, NC | 01/25/08 | 01/24/08
62736 | Meade Instruments Corporation (State) | Irvine, CA | 01/25/08 | 01/24/08
62737 | Cherry Electrical Products (Rep) | Pleasant Prairie, WI | 01/25/08 | 01/22/08
62738 | Siemens Medical Solutions USA, Inc. (Comp) | Mountain View, CA | 01/25/08 | 01/23/08
62739 | Plymouth Rubber Co. LLC (Comp) | Canton, MA | 01/25/08 | 01/24/08
62740 | Tail, Inc. (Rep) | Miami, FL | 01/25/08 | 01/18/08
62741 | Corel (Wkrs) | Eden Prairie, MN | 01/25/08 | 01/22/08
62742 | Edge Builder Wall Panels, Inc./Norse Division (Wkrs) | Oakdale, MN | 01/25/08 | 01/11/08
62743 | Hearthstone Enterprises, Inc./dba Charleston Forge (Comp) | Boone, NC | 01/25/08 | 01/24/08
62744 | Epitec Group (State) | Southfield, MI | 01/25/08 | 01/15/08
62745 | Fourth Generation Services, Inc. (State) | Troy, MI | 01/25/08 | 01/15/08

[FR Doc. E8-2233 Filed 2-6-08; 8:45 am]

BILLING CODE 4510-FN-P